DEPARTMENT OF THE INTERIOR

Bureau of Land Management

[CO-923-1430-ET; COC-70988]

Public Land Order No. 7733; Withdrawal of Public Land for Emerald Mountain Recreation Management Area; Colorado

AGENCY: Bureau of Land Management, Interior.

ACTION: Public Land Order.

SUMMARY: This order withdraws approximately 4,138 acres of public lands from all forms of appropriation under the public land laws, including the United States mining laws, and the mineral and geothermal leasing laws, for a period of 20 years for the Bureau of Land Management to protect the scenic, recreation, water quality and wildlife habitat values of the Emerald Mountain Recreation Management Area in Routt County, Colorado.

DATES: Effective Date: May 22, 2009.

FOR FURTHER INFORMATION CONTACT: John D. Beck, Branch of Lands and Realty, Colorado State Office, 2850 Youngfield Street, Lakewood, Colorado 80215-7093, 303-239-3882.

SUPPLEMENTARY INFORMATION: The lands embraced within the exterior boundaries of this withdrawal were recently acquired by the Bureau of Land Management from the State of Colorado to protect the scenic, recreation, water quality and wildlife habitat values.

Order

By virtue of the authority vested in the Secretary of the Interior by Section 204 of the Federal Land Policy and Management Act, 43 U.S.C. 1714 (2000), it is ordered as follows:

1. Subject to valid existing rights, the following described lands are hereby withdrawn from all forms of appropriation under the public land laws, including location and entry under the United States mining laws, (30 U.S.C. Ch. 2 (2000)), and the geothermal and mineral leasing laws, to protect scenic, recreation, water quality and wildlife values of the Emerald Mountain Recreation Management Area: Sixth Principal Meridian

T. 6 N., R. 85 W.,

sec. 13, SE¼SE¼, excepting and excluding the west 100 feet thereof and the north 100 feet thereof;

sec. 15, S½NE¼, S½SW¼, and SE¼;

sec. 21, that portion of the S½N½SE¼NE¼, S½SE¼NE¼, and E½SE¼ lying North and East of the centerline of the Cow Creek Road (County Road No. 45) excepting the traverse and right-of-way, whether an easement or in fee, for County Road No. 45;

sec. 22;

sec. 23, W½NW¼, W½SE¼NW¼, SE¼SE¼NW¼, SW¼, S½N½SE¼, and S½SE¼;

sec. 24, NE¼NE¼, W½NE¼, E½E½NW¼, E½SW¼, S½NW¼SW¼, SW¼SW¼, NW¼SE¼, and S½SE¼;

secs. 25 and 26;

secs. 27, 34, and 35, those portions lying north and east of the centerline of the Cow Creek Road (County Road No. 45);

Excepting Therefrom a parcel of land containing 123.78 acres located in secs. 23 and 24 of T. 6 N., R. 85 W. of the 6th P.M. Routt County, Colorado, described as follows:

Beginning at a point on the North side of an existing road (top of ridge) and on the North line of the said NW¼NW¼ of sec. 23 from which the Northwest corner of said sec. 23 bears N89°13′32″W 164.58 feet;

Thence East along the North line of the said NW¼NW¼ of sec. 23 to the Northwest corner of the NE¼NW¼ of sec. 23 and the Northwest corner of a parcel of land which is described at Reception Number 610794 (State: of Colorado Patent No. 8350) of the Routt County Clerk and Recorders Records;

Thence South along the West line of the said NE¼NW¼ of sec. 23 and along the West line said Reception Number 610794;

Thence East along the South line of the said NE¼NW¼ of sec. 23 and along a South line said Reception Number 610794;

Thence South along the West line of the said NE¼SE¼NW¼ of sec. 23 and along a West line said Reception Number 610794;

Thence East along the South line of the said NE¼SE¼NW¼ of sec. 23 and along a South line said Reception Number 610794;

Thence South along the West line of the said NE¼ of sec. 23 and along a West line said Reception Number 610794;

Thence South along the West line of the said N½N½SE¼ of sec. 23 and along a West line said Reception Number 610794;

Thence East along the South line of the said N½N½SE¼ of sec. 23 and along the South line said Reception Number 610794;

Thence East along the South line of the said N½NW¼SW¼ of sec. 24 and along the South line said Reception Number 610794;

Thence North along the East line of the said N½NW¼SW¼ of sec. 24 and along an East line said Reception Number 610794;

Thence East along the South line of the said W½SE¼NW¼ of sec. 24 and along a South line said Reception Number 610794;

Thence North along the East line of the said W½SE¼NW¼ of sec. 24 and along an East line said Reception Number 610794 to the VOR Boundary Line (State Lease No. S-40743);

Thence along the VOR Boundary Line S12°50′38″E 299.28 feet;

Thence S33°42′38″E 22.93 feet to the said North side of an existing road (top of ridge);

Thence along the North side of an existing road (top of ridge) the following 110 calls;

Thence S50°53′35″W 74.77 feet;

Thence S30°01′45″W 154.66 feet;

Thence S28°31′35″W 87.10 feet;

Thence S69°35′54″W 81.43 feet;

Thence S85°40′20″W 60.86 feet;

Thence S49°17′24″W 58.86 feet;

Thence S41°56′59″W 134.03 feet;

Thence S37°38′18″W 87.73 feet;

Thence S15°35′30″W 79.00 feet;

Thence S49°46′21″W 108.55 feet;

Thence S12°48′13″W 74.61 feet;

Thence S38°47′34″W 88.97 feet;

Thence N85°43′33″W 115.46 feet;

Thence N31°26′52″W 73.54 feet;

Thence N14°56′20″W 104.21 feet;

Thence N56°36′48″W 84.47 feet;

Thence N86°58′32″W 25.88 feet;

Thence N54°51′32″W 72.09 feet;

Thence S85°51′12″W 105.33 feet;

Thence S61°17′43″W 268.38 feet;

Thence S40°58′52″W 112.92 feet;

Thence S52°06′13″W 122.46 feet;

Thence S60°18′48″W 136.16 feet;

Thence S76°44′29″W 99.18 feet;

Thence S86°42′26″W 66.02 feet;

Thence S68°09′27″W 71.14 feet;

Thence S72°42′33″W 86.80 feet;

Thence S76°38′34″W 74.19 feet;

Thence S58°25′05″W 104.46 feet;

Thence S83°56′22″W 58.42 feet;

Thence N64°17′55″W 154.26 feet;

Thence S84°05′15″W 114.25 feet;

Thence S88°58′19″W 132.72 feet;

Thence S68°36′20″W 53.92 feet;

Thence S76°57′09″W 103.67 feet;

Thence N82°43′50″W 152.63 feet;

Thence S65°04′59″W 131.51 feet;

Thence S81°58′30″W 50.01 feet;

Thence N66°22′44″W 103.89 feet;

Thence N67°36′04″W 142.14 feet;

Thence N81°15′18″W 101.71 feet;

Thence N88°03′08″W 91.61 feet;

Thence N85°51′10″W 83.84 feet;

Thence S63°07′53″W 96.98 feet;

Thence S87°19′55″W 52.62 feet;

Thence N81°02′21″W 52.60 feet;

Thence S72°58′28″W 102.27 feet;

Thence N85°45′58″W 46.89 feet;

Thence N76°50′26″W 121.49 feet;

Thence N66°37′46″W 82.62 feet;

Thence N70°03′27″W 102.49 feet;

Thence N86°09′48″W 144.29 feet;

Thence N61°19′11″W 54.13 feet;

Thence N77°29′21″W 236.46 feet;

Thence N65°54′30″W 63.61 feet;

Thence N51°07′21″W 64.32 feet;

Thence N39°08′23″W 177.57 feet;

Thence N63°13′32″W 88.53 feet;

Thence N35°43′27″W 75.59 feet;

Thence N66°17′06″W 108.99 feet;

Thence N57°14′02″W 58.33 feet;

Thence N82°43′22″W 85.03 feet;

Thence N37°25′09″W 44.39 feet;

Thence N24°09′53″W 38.91 feet;

Thence N47°56′52″W 94.25 feet;

Thence N41°56′57″W 110.76 feet;

Thence N25°13′06″W 129.66 feet;

Thence N41°27′24″W 64.04 feet;

Thence N11°22′34″W 70.79 feet;

Thence N41°16′24″W 120.61 feet;

Thence N59°17′37″W 98.64 feet;

Thence N62°59′30″W 23.50 feet;

Thence N32°41′09″W 75.57 feet;

Thence N41°54′29″W 85.05 feet;

Thence N29°45′20″W 96.36 feet;

Thence N04°54′34″W 105.47 feet;

Thence N17°02′34″W 104.53 feet;

Thence N42°24′33″W 42.32 feet;

Thence N73°51′48″W 148.88 feet;

Thence N66°36′39″W 31.71 feet;

Thence N45°56′30″W 110.06 feet;

Thence N3730 18”W 78.07 feet;

Thence N29°31′07″W 97.61 feet;

Thence N39°24′56″W 140.33 feet;

Thence N31°39′34″W 136.12 feet;

Thence N41°49′43″W 89.75 feet;

Thence N68°54′22″W 109.23 feet;

Thence N51°31′11″W 70.02 feet;

Thence N15°08′01″W 15.17 feet;

Thence N15°27′12″E 108.56 feet;

Thence N21°37′52″E 105.46 feet;

Thence N06°44′53″E 107.26 feet;

Thence N03°03′35″E 68.31 feet;

Thence N21°05′16″E 93.84 feet;

Thence N00°26′24″E 65.96 feet;

Thence N09°16′03″E 57.58 feet;

Thence N18°37′13″W 72.17 feet;

Thence N37°53′14″W 124.39 feet;

Thence N61°43′36″W 89.58 feet;

Thence N50°42′33″W 86.54 feet;

Thence N53°38′51″W 83.66 feet;

Thence N37°16′48″W 46.09 feet;

Thence N17°28′58″W 56.27 feet;

Thence N06°24′06″W 44.49 feet;

Thence N16°53′31″W 106.95 feet;

Thence N05°02′10″W 224.13 feet;

Thence N14°40′37″W 82.61 feet;

Thence N28°19′20″W 76.69 feet;

Thence N11°15′24″W 69.14 feet;

Thence N00°55′11″W 21.10 feet to the Point of Beginning.

All bearings shown hereon are based upon the North line of the NE¼ of said sec. 24 as being N89°24′02″W.

The areas described aggregate 4,138.52 acres, more or less, in Routt County according to United States Government Survey and James B. Ackerman, R.L.S. 416394, of Emerald Mountain Surveys, Inc., Steamboat Springs, Colorado 80477.

2. This withdrawal will expire 20 years from the effective date of this order, unless, as a result of a review conducted before the expiration date pursuant to Section 204(f) of the Federal Land Policy and Management Act of 1976, 43 U.S.C. 1714(f) (2000), the Secretary determines that the withdrawal shall be extended.

Dated: May 19, 2009.
Ken Salazar,
Secretary of the Interior.

[FR Doc. E9-12307 Filed 5-21-09; 4:15 pm]

BILLING CODE 4310-JB-P